OFFICE OF THE UNITED STATES TRADE REPRESENTATIVE

[Dispute No. WTO/DS488]

WTO Dispute Settlement Proceeding Regarding United States—Anti-Dumping Measures on Oil Country Tubular Goods From Korea

AGENCY: Office of the United States Trade Representative.

ACTION: Notice; request for comments.

SUMMARY: The Office of the United States Trade Representative (“USTR”) is providing notice that on December 22, 2014, the Republic of Korea requested consultations with the United States under the Marrakesh Agreement Establishing the World Trade Organization (“WTO Agreement”) concerning antidumping measures on oil country tubular goods from Korea. That request may be found at www.wto.org contained in a document designated as WT/DS488/1. USTR invites written comments from the public concerning the issues raised in this dispute.

DATES: Although USTR will accept any comments received during the course of the dispute settlement proceedings, comments should be submitted on or before February 18, 2015, to be assured of timely consideration by USTR.

ADDRESSES: Public comments should be submitted electronically to www.regulations.gov, docket number USTR-2015-0001. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: Matthew Jaffe, Assistant General Counsel, or Ross Bidlingmaier, Assistant General Counsel, Office of the United States Trade Representative, 600 17th Street NW., Washington, DC 20508, (202) 395-3150.

SUPPLEMENTARY INFORMATION: USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by Korea

On July 18, 2014, the Department of Commerce (“Commerce”) published in the Federal Register notice of its final affirmative less-than-fair-value (“LTFV”) determination in the antidumping investigation concerning oil country tubular goods from Korea (79 FR 41983). On September 10, 2014, Commerce published the antidumping duty order (79 FR 53691).

On December 22, 2014, Korea requested consultations concerning antidumping measures on oil country tubular goods from Korea. Korea's challenge includes the final LTFV determination and antidumping order, as well as “all administrative reviews, new shipper reviews, changed circumstances reviews, sunset reviews, and other segments.” Korea alleges that these measures are inconsistent with various provisions of the Anti-Dumping Agreement and the General Agreement on Tariffs and Trade 1994.

In its request for consultations, Korea challenges Commerce's calculation of the constructed value profit rate for the Korean respondents. Korea alleges inconsistencies with Articles 2.2, 2.2.2, 2.4, 6.2, 6.4, 6.9, and 12.2.2 of the Anti-Dumping Agreement, and Articles I and X:3 of the General Agreement on Tariffs and Trade 1994.

Korea also challenges Commerce's conclusion that “the Korean respondent NEXTEEL was affiliated with an unaffiliated supplier and an unaffiliated customer” within the meaning of Article 2.3 of the Anti-Dumping Agreement. In addition, Korea challenges Commerce's decision to select two mandatory respondents as inconsistent with Article 6.10, including Articles 6.10.1 and 6.10.2 of the Anti-Dumping Agreement.

Finally, Korea challenges “as such” Commerce's use of an alleged methodology to determine whether a respondent's home market sales are viable for the purposes of calculating normal value. Korea also challenges Commerce's application of this alleged methodology in the measures included in Korea's request for consultations. Korea alleges inconsistencies with Article 2.2 of the Anti-Dumping Agreement.

Public Comment: Requirements for Submissions

Interested persons are invited to submit written comments concerning the issues raised in this dispute. Persons may submit public comments electronically to www.regulations.gov docket number USTR-2015-0001. If you are unable to provide submissions by www.regulations.gov, please contact Sandy McKinzy at (202) 395-9483 to arrange for an alternative method of transmission.

To submit comments via www.regulations.gov, enter docket number USTR-2015-0001 on the home page and click “search”. The site will provide a search-results page listing all documents associated with this docket. Find a reference to this notice by selecting “Notice” under “Document Type” on the left side of the search-results page, and click on the link entitled “Comment Now!” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection.

Pursuant to section 127(e) of the Uruguay Round Agreements Act (19 U.S.C. 3537(e)), USTR will maintain a docket on this dispute settlement proceeding, docket number USTR-2015-0001, accessible to the public at www.regulations.gov.

The public file will include non-confidential comments received by USTR from the public regarding the dispute. If a dispute settlement panel is convened, or in the event of an appeal from such a panel, the following documents will be made available to the public at www.ustr.gov: The United States' submissions, any non-confidential submissions received from other participants in the dispute, and any non-confidential summaries of submissions received from other participants in the dispute. In the event that a dispute settlement panel is convened, or in the event of an appeal from such a panel, the report of the panel, and, if applicable, the report of the Appellate Body, will also be available on the Web site of the World Trade Organization, at www.wto.org. Comments open to public inspection may be viewed at www.regulations.gov.

Juan Millan,
Assistant United States Trade Representative for Monitoring and Enforcement.

[FR Doc. 2015-01332 Filed 1-23-15; 8:45 am]

BILLING CODE 3290-F5-P